DEPARTMENT OF THE INTERIOR

National Park Service

National Register of Historic Places; Notification of Pending Nominations and Related Actions

Nominations for the following properties being considered for listing or related actions in the National Register were received by the National Park Service before September 30, 2006. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by November 2, 2006.

John W. Roberts,
Acting Chief, National Register/National Historic Landmarks Program.

ALABAMA

Baldwin County

Stuart, Henry, House, 22787 AL 98, Montrose, 06000985

Calhoun County

Fort McClellan Ammunition Storage Historic District, Pappy Dunn Blvd., Anniston, 06000981

Fort McClellan Industrial Historic District, Jimmy Parks Blvd., Transportation Rd. Idaho Ave., Anniston, 06000982

Fort McClellan Post Headquarters Historic District, Buckner Circle, Headquarters Ave., Drennan Dr., Anniston, 06000983

Fort McClellan World War II Housing Historic District, Breman Rd. Bachelor Dr., Iron Mountain Rd., Micron Wy., Anniston, 06000984

ARKANSAS

Franklin County

Whitman, Merle, Tourist Cabin, (Arkansas Highway History and Architecture MPS), 200 N. Bell St., Ozark, 06000980

GEORGIA

Bibb County

Macon Railway and Light Company Substation, 1015 Riverside Dr., Macon, 06000986

Putnam County

Strong-Davis-Rice-George House, 107 Hudson Rd., Eatonton, 06000987

MISSOURI

Boone County

Downtown Columbia Historic District, (Downtown Columbia Historic District MPS AD), Parts of 7th, 8th, 9th, 10th, E. Broadway, Cherry, Hitt, Locust, and E. Walnut Sts., Columbia, 06000990

Buchanan County

Herbert, Alois, Double House, (St. Joseph, Buchanan County, Missouri MPS AD), 620 S. 10th St., Saint Joseph, 06000992

Logan, John Sublett Jr. and Caroline Ashton, House, (St. Joseph, Buchanan County, Missouri MPS AD), 1906 N. 22nd St., Saint Joseph, 06000991

Camden County

Urbauer Fishing Lodge Historic District, 442 Riverbird Ln., Camdenton, 06000989

Jackson County

Drumm, Andrew, Institute, 3210 Lee's Summit Rd., Independence, 06001014

St. Louis County

Tuxedo Park Christian Church, 700 Tuxedo Blvd., Webster Groves, 06000988

NEBRASKA

Adams County

Jackson-Einspahr Sod House, Address Restricted, Holstein, 06000994

Cass County

Perry, Glenn and Addie, Farmhouse, Address Restricted, Plattsmouth, 06000999

Dakota County

Bonderson, Ben, Farm, 1541 270th St., Emerson, 06000993

Douglas County

Bennington State Bank, 15411 S. Second St., Bennington, 06000998

Gage County

Purdy, Rachel Kilpatrick, House, 1201 N 11th St., Beatrice, 06000995

Johnson County

Townsend, George, House, 61872 NE 136, Tecumseh, 06000996

Sarpy County

Gordon, William E., House, 711 Bellevue Blvd. S, Bellevue, 06000997

NEW YORK

Herkimer County

Italian Community Bake Oven, NY 167, Little Falls, 06001003

Onondaga County

Cosman Family Cemetery, Lattintown Rd., Middle Hope, 06001002

Otsego County

Fly Creek Historic District, (Industrial Development in the Oaks Creek Valley, Otsego County, New York MPS), NY 28, NY 80, Cty Rd. 26, Cemetery Rd., Goose St. Allison Rd., Bissell Rd., Fly Creek, 06001004

Rockland County

Andre, Maj. John, Monument, 42 Andre Hill, Tappan, 06001001 Washington County

Dayton-Williams House, 65 Dayton Hill Rd., Middel Granville, 06001000

PENNSYLVANIA

Lancaster County

Ephrata Commercial Historic District, Portions of W. Main, E. Main, N. State, S. State Sts., and Washington Ave., Ephrata, 06001005

Philadelphia County

Presser Home for Retired Music Teachers, 101-121 W. Johnson St., Philadelphia, 06001006

SOUTH DAKOTA

Corson County

Sitting Bull Monument, SE ¼ of SE ¼ of Sec 13 T18 R29, Mobridge, 06001008

Minnehaha County

Renner Ball Park, ¾ mi. W of 258th St., and SD 115 intersection, Renner, 06001007

TENNESSEE

Sumner County

Durham's Chapel School, 5055 Old TN 31 E, Bethpage, 06001009

VERMONT

Franklin County

Giroux Furniture Company Building, 10-18 Catherine St., St. Albans, 06001010

VIRGINIA

Chesterfield County

Dale's Pale Archeological District, (Prehistoric through Historic Archeological and Architectural Resources at Bermuda Hundred MPS), South Shore of James R., Chesterfield County Park, Chester, 06001012

Town of Bermuda Hundred Historic District, (Prehistoric through Historic Archeological and Architectural Resources at Bermuda Hundred MPS), Both sides of Bermuda Hundred and Allied Rds., Chester, 06001011

WASHINGTON

Whitman County

College Hill Historic District, Roughly bounded by Stadium Way, B St., Howard St. and Indiana St., Pullman, 06001013

[FR Doc. E6-17297 Filed 10-17-06; 8:45 am]

BILLING CODE 4312-51-P